DEPARTMENT OF LABOR

Employment and Training Administration

[TA-W-37,087]

Gaudette Leather Goods, Incorporated, North Attleboro, MA; Notice of Termination of Investigation

Pursuant to Section 221 of the Trade Act of 1974, an investigation was initiated on November 22, 1999, in response to a worker petition which was filed on behalf of former workers at Gaudette Leather Goods, Incorporated, located in North Attleboro, Massachusetts (TA-W-37,087).

The petitioner has requested that the petition be withdrawn. Consequently, further investigation in this case would serve no purpose, and the investigation has been terminated.

Signed at Washington, D.C. this 28th day of February 2000.
Grant D. Beale,
Program Manager, Division of Trade Adjustment Assistance.

[FR Doc. 00-6369 Filed 3-14-00; 8:45 am]

BILLING CODE 4510-30-M